DEPARTMENT OF VETERANS AFFAIRS

Veterans' Advisory Committee on Rehabilitation, Notice of Meeting

Department of Veterans Affairs (VA) gives notice under the Federal Advisory Committee Act, 5 U.S.C. Ch. 10, that the Veterans' Advisory Committee on Rehabilitation (hereinafter the Committee) will meet on Wednesday, August 28, 2024. The meeting session will begin and end as follows:

Date | Time | Location | Open session
August 28, 2024 | 11:00 a.m.-3:00 p.m. Eastern Standard Time | Veteran Readiness and Employment Service, 1800 G St. NW, Washington, DC 20006; and also Virtually via Microsoft Teams | Yes.

The Committee session is open to the public.

The purpose of the Committee is to advise the Secretary of VA on the rehabilitation needs of Veterans with disabilities and the administration of VA's rehabilitation programs.

During the open session, the Committee will receive briefings on various Veterans Health Administration and Veterans Benefits Administration (VBA) programs designed to enhance the rehabilitative potential of Veterans with disabilities.

Members of the public may submit written statements until Friday, August 23, 2024, for the Committee's review to Ms. Latrese Thompson, Designated Federal Officer, VBA (28), 1800 G Street NW, Washington, DC 20006, or at VACOR.VBACO@va.gov. In the communication, writers must identify themselves and state the organization, association, or person(s) they represent.

Members of the public may attend in person or virtually using the following Microsoft Teams link by computer or mobile app:

Join the Meeting Now

https://teams.microsoft.com/l/meetup-join/19%3ameeting_ZDVhNjZmZGQtY2U5NS00NjM3LTk4ZTEtZjY5MDhiM2ViOGEy%40thread.v2/0?context=%7b%22Tid%22%3a%22e95f1b23-abaf-45ee-821d-b7ab251ab3bf%22%2c%22Oid%22%3a%22c392d3a0-a06e-41a2-bbcd-b0d7bfd785dd%22%7d.

Meeting ID: 274 411 049 012

Passcode: R6peyT

Join by phone: 1-205-235-3524

Phone Conference ID: 815047066#

Dated: August 7, 2024.
Jelessa M. Burney,
Federal Advisory Committee Management Officer.

[FR Doc. 2024-17873 Filed 8-9-24; 8:45 am]

BILLING CODE 8320-01-P